DEPARTMENT OF LABOR

Employment and Training Administration

[TA-W-51,668]

Creative Dyeing, Inc., Mt. Holly, NC; Notice of Termination of Investigation

Pursuant to section 221 of the Trade Act of 1974, as amended, an investigation was initiated on May 2, 2003, in response to a worker petition filed by a company official on behalf of workers at Creative Dyeing, Inc., Mt. Holly, North Carolina.

The petitioner has requested that the petition be withdrawn. Consequently, the investigation has been terminated.

Signed at Washington, DC this 27th day of May 2003.
Richard Church,
Certifying Officer, Division of Trade Adjustment Assistance.

[FR Doc. 03-15463 Filed 6-18-03; 8:45 am]

BILLING CODE 4510-30-P